Memorandum of January 24, 2017

Streamlining Permitting and Reducing Regulatory Burdens for Domestic Manufacturing

Memorandum for the Heads of Executive Departments and Agencies

By the authority vested in me as President by the Constitution and the laws of the United States of America, I hereby direct the following:

Section 1. Purpose. This memorandum directs executive departments and agencies (agencies) to support the expansion of manufacturing in the United States through expedited reviews of and approvals for proposals to construct or expand manufacturing facilities and through reductions in regulatory burdens affecting domestic manufacturing.

Sec. 2. Stakeholder Consultation on Streamlining Permitting. The Secretary of Commerce shall conduct outreach to stakeholders concerning the impact of Federal regulations on domestic manufacturing and shall solicit comments from the public for a period not to exceed 60 days concerning Federal actions to streamline permitting and reduce regulatory burdens for domestic manufacturers. As part of this process, the Secretary of Commerce shall coordinate with the Secretaries of Agriculture and Energy, the Administrator of the Environmental Protection Agency, the Director of the Office of Management and Budget, the Administrator of the Small Business Administration, and such other agency heads as may be appropriate.

Sec. 3. Permit Streamlining Action Plan. Within 60 days after completion of the process described in section 2 of this memorandum, the Secretary of Commerce shall submit a report to the President setting forth a plan to streamline Federal permitting processes for domestic manufacturing and to reduce regulatory burdens affecting domestic manufacturers. The report should identify priority actions as well as recommended deadlines for completing actions. The report also may include recommendations for any necessary changes to existing regulations or statutes, as well as actions to change policies, practices, or procedures that can be taken immediately under existing authority.

Sec. 4. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable laws and subject to the availability of appropriations.

(c) This memorandum is not intended to, and does not, create any right or benefit, substantive or procedural, enforceable at law or in equity by any party against the United States, its departments, agencies, or entities, its officers, employees, or agents, or any other person.

(d) The Secretary of Commerce is hereby authorized and directed to publish this memorandum in the Federal Register.

THE WHITE HOUSE,

Washington, January 24, 2017

[FR Doc. 2017-02044

Filed 1-27-17; 8:45 am]

Billing code 3510-07-P